DEPARTMENT OF THE TREASURY

Proposed Collection; Comment Request; Office of Small and Disadvantaged Business Utilization

AGENCY: Departmental Offices, Department of Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Departmental Offices, OSDBU within the Department of the Treasury is soliciting comments concerning the Electronic Capability Statement (ECS).

DATES: Written comments must be received on or before March 1, 2013 to be assured of consideration.

ADDRESSES: Direct all written comments to the Department of the Treasury, Departmental Offices, OSDBU, ATTN: Robin Byrd, 1500 Pennsylvania Avenue NW., Washington, DC 20220, MS: Metropolitan Square, Room 6N403, (202) 622-8213; http://www.treas.gov/osdbu.

FOR FURTHER INFORMATION CONTACT: Requests for additional information or copies of the form(s) and instructions should be directed to the Department of the Treasury, Departmental Offices, OSDBU, ATTN: Robin Byrd, 1500 Pennsylvania Avenue NW., Washington, DC 20220, MS: Metropolitan Square, Room 6N403, (202) 622-8213; http://www.treas.gov/osdbu.

SUPPLEMENTARY INFORMATION:

Title: Electronic Capability Statement.

OMB Number: 1505-0220.

Abstract: The Electronic Capability Statement will be used by firms that wish to do business with the Department of the Treasury. The form will capture key information such as NAICS, contract and subcontract award information, and past performance. The information will be stored in a database. The database will be used by OSDBU, Treasury Acquisition staff and the Troubled Asset Relief Program to conduct research when searching for small businesses to perform on Treasury contracts.

Current Actions: The Electronic Capability Statement was developed by the Chief Information Officer. Small businesses that wish to do business with the Department of the Treasury are registering their firm and submitting their firm's capabilities statement. The Electronic Capabilities Statement will facilitate market research efforts by Treasury Bureaus, allowing them to search for small businesses and review their capabilities.

Type of Review: Extension.

Affected Public: Business or other for-profit; Federal Government.

Estimated Number of Annual Respondents: 420.

Estimated Hours per Response: 0.13.

Estimated Total Annual Burden Hours: 54.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: December 26, 2012.
Dawn D. Wolfgang,
Treasury PRA Clearance Officer.

[FR Doc. 2012-31385 Filed 12-28-12; 8:45 am]

BILLING CODE 4810-25-P